DEPARTMENT OF HEALTH AND HUMAN SERVICES

National Institutes of Health

National Center for Complementary and Alternative Medicine; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Center for Complementary and Alternative Medicine Special Emphasis Panel.

Date: December 7, 2001.

Time: 1 pm to 3 pm.

Agenda: To review and evaluate contract proposals.

Place: NCCAM/Office of Scientific Review, 6707 Democracy Blvd, Ste. 106, Bethesda, MD 20892, (Telephone Conference Call).

Contact Person: Martin H. Goldrosen, Ph.D., Chief, Office of Scientific Review, National Center for Complementary, and Alternative Medicine, National Institutes of Health, 6707 Democracy Blvd, Ste. 106, Bethesda, MD 20892-5475, (301) 451-6331, goldrosm@mail.nih.gov.

Dated: November 16, 2001.
LaVerne Y. Stringfield,
Director, Office of Federal Advisory Committee Policy.

[FR Doc. 01-29537 Filed 11-27-01; 8:45 am]

BILLING CODE 4140-01-M